DEPARTMENT OF COMMERCE

Census Bureau

Proposed Information Collection; Comment Request; Quarterly Summary of State and Local Government Tax Revenue

AGENCY: U.S. Census Bureau.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before June 24, 2013.

ADDRESSES: Direct all written comments to Jennifer Jessup, Departmental Paperwork Clearance Officer, Department of Commerce, Room 6616, 14th and Constitution Avenue NW, Washington, DC 20230 (or via the Internet at JJessup@doc.gov).

FOR FURTHER INFORMATION CONTACT: Requests for additional information or copies of the information collection instrument(s) and instructions should be directed to Cheryl Lee, Chief, State Finance and Tax Statistics Branch, Governments Division, U.S. Census Bureau, Headquarters: 6K041, Washington, DC, 20233; telephone: 301.763.5635; facsimile: 301.763.6833; email: cheryl.h.lee@census.gov

SUPPLEMENTARY INFORMATION:

I. Abstract

The Census Bureau conducts the Quarterly Summary of State and Local Government Tax Revenue, using the F-71 (Quarterly Survey of Property Tax Collections), F-72 (Quarterly Survey of State Tax Collections), and F-73 (Quarterly Survey of Non-Property Taxes) forms. The Quarterly Summary of State and Local Government Tax Revenue provides quarterly estimates of state and local government tax revenue at the national level, as well as detailed tax revenue data for individual states. The information contained in this survey is the most current information available on a nationwide basis for government tax collections.

The Census Bureau needs state and local tax data to publish benchmark statistics on taxes, to provide data to the Bureau of Economic Analysis for Gross Domestic Product (GDP) calculations and other economic indicators, and to provide data for economic research and comparative studies of governmental finances.

Tax collection data are used to measure economic activity for the Nation as a whole, as well as for comparison among the various states. Economists and public policy analysts use the data to assess general economic conditions and state and local government financial activities.

The Census Bureau is requesting a revision to the F-73 form, which surveys local governments on the non-property taxes they collect. The current form will be reduced from eleven questions to three questions on the revised form which will cover only general sales and gross receipts taxes, personal income taxes, and corporate income taxes; eliminating: motor fuel sales, public utilities, alcohol sales, tobacco sales, motor vehicle licenses and operator's licenses, and all other non-property taxes.

The Quarterly Survey of Non-Property Taxes (Form F-73) will be mailed to a sample of approximately 1,800 local tax collection agencies known to have substantial collections of local general sales and/or local individual/corporate income taxes every quarter. The sample size could potentially be reduced after the revision of the form. A new sample frame is being developed to accompany the new survey design. The new sample is designed to meet the Office of Management and Budget's statistical standards for data quality.

The Quarterly Survey of Property Tax Collections (Form F-71) will be mailed to a sample of approximately 5,500 local tax collection agencies known to have substantial collections of property tax.

The Quarterly Survey of State Tax Collections (Form F-72) will be sent to each of the 50 state governments.

II. Method of Collection

F-71 and F-73 survey data will be collected via mail-out/mail-back questionnaires, which are also available on the Internet. Respondents may choose to mail, fax, or report their data online. Data for the F-72 survey are collected via form or compilation of data in coordination with the state government revenue office. In addition to reporting current quarter data, respondents may report data for the previous eight quarters or submit revisions to their previously submitted data.

In those instances when we are not able to obtain a response, we conduct follow-up operations using email and phone calls.

Nonresponse weighting adjustments are used to adjust for any unreported units in the sample from the latest available data.

III. Data

OMB Control Number: 0607-0112.

Form Number: F-71, F-72, F-73.

Type of Review: Regular submission.

Affected Public: Local and State governments.

Estimated Number of Respondents: 7,350.

Estimated Time per Response: 30 minutes.

Estimated Total Annual Burden Hours: 14,700.

Estimated Total Annual Cost: $347,067.

Respondents Obligation: Voluntary.

Legal Authority: Title 13 U.S.C. Section 182.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: April 17, 2013.
Glenna Mickelson,
Management Analyst, Office of the Chief Information Officer.

[FR Doc. 2013-09445 Filed 4-22-13; 8:45 am]

BILLING CODE 3510-07-P